SECURITIES AND EXCHANGE COMMISSION

[File No. 33-09835]

Issuer Delisting; Notice of Application To Withdraw From Listing and Registration on the New York Stock Exchange, Inc. (Commonwealth of Australia, 9⅝% Bonds)

July 3, 2003.

The Australian Office of Financial Management on behalf of the Federal Government of the Commonwealth of Australia, (“Issuer”), has filed an application with the Securities and Exchange Commission (“Commission”), pursuant to section 12(d) of the Securities Exchange Act of 1934 (“Act”) ¹ and Rule 12d2-2(d) thereunder,² to withdraw its 9⅝% Bonds (“Security”), from listing and registration on the New York Stock Exchange, Inc. (“NYSE” or “Exchange”).

¹ 15 U.S.C. 78l(d).

² 17 CFR 240.12d2-2(d).

The Treasurer of the Commonwealth of Australia (“Treasurer”) approved a resolution on February 14, 2003 to withdraw the Issuer's Security from listing on the NYSE under NYSE Rule 500 and Section 8.06 of the NYSE Listed Company Manual (“Company Manual”). In making its decision to withdraw the Security from the Exchange, the Treasurer determined that it was in the Issuer's best interest to delist from the NYSE because the remaining amount of Bonds on issue and the small number of holders are such that the listing provides little or no liquidity benefits.

The Issuer stated in its application that it has complied with the NYSE's rules governing an issuer's voluntary withdrawal of a security from listing and registration. The Issuer's application relates solely to the Security's withdrawal from listing on the NYSE and from registration under section 12(b) of the Act ³ and shall not affect its obligation to be registered under section 12(g) of the Act.⁴

Any interested person may, on or before July 25, 2003, submit by letter to the Secretary of the Securities and Exchange Commission, 450 Fifth Street, NW, Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

³ 15 U.S.C. 78l(b).

⁴ 15 U.S.C. 78l(g).

For the Commission, by the Division of Market Regulation, pursuant to delegated authority.⁵
⁵ 17 CFR 200.30-3(a)(1).
Jonathan G. Katz,
Secretary.

[FR Doc. 03-17416 Filed 7-9-03; 8:45 am]

BILLING CODE 8010-01-P